DEPARTMENT OF ENERGY

Federal Energy Regulatory Commission

Combined Notice of Filings # 1

June 14, 2010.

Take notice that the Commission received the following electric rate filings:

Docket Numbers: ER98-2782-017; ER98-2782-018; ER98-2782-019; ER06-146-004; ER07-930-002.

Applicants: AG-Energy, LP, Seneca Power Partners, LP, Sterling Power Partners, LP.

Description: Alliance MBR Sellers submits amended tariff sheets in compliance with Order No 697.

Filed Date: 06/11/2010.

Accession Number: 20100614-0203.

Comment Date: 5 p.m. Eastern Time on Friday, July 02, 2010.

Docket Numbers: ER10-895-003.

Applicants: The Detroit Edison Company.

Description: Detroit Edison Company submits amendment to request for delay to extend the termination of the PLD Agreement until 7/16/10.

Filed Date: 06/14/2010.

Accession Number: 20100614-0213.

Comment Date: 5 p.m. Eastern Time on Tuesday, July 06, 2010.

Docket Numbers: ER10-1156-001.

Applicants: Conectiv Delmarva Generation, Inc.

Description: Conectiv Delmarva Generation, Inc submits Substitute Original Sheet No 1 to FERC Electric Tariff, Original Volume No 2.

Filed Date: 06/11/2010.

Accession Number: 20100611-0213.

Comment Date: 5 p.m. Eastern Time on Friday, July 02, 2010.

Docket Numbers: ER10-1315-001.

Applicants: Florida Power Corporation.

Description: Florida Power Corporation submits revisions to Sheet No 4 et al. of its Power Sales Agreement with the City of Williston.

Filed Date: 06/11/2010.

Accession Number: 20100611-0212.

Comment Date: 5 p.m. Eastern Time on Friday, July 02, 2010.

Docket Numbers: ER10-1421-000.

Applicants: Citizens Choice Energy, LLC.

Description: Citizens Choice Energy, LLC submits a Petition for Acceptance of Initial Rate Schedule, Waivers and Blanket Authority.

Filed Date: 06/11/2010.

Accession Number: 20100611-0207.

Comment Date: 5 p.m. Eastern Time on Friday, July 02, 2010.

Docket Numbers: ER10-1422-000.

Applicants: PJM Interconnection, LLC.

Description: PJM Interconnection, LLC submits an executed interconnection service agreement etc.

Filed Date: 06/11/2010.

Accession Number: 20100611-0206.

Comment Date: 5 p.m. Eastern Time on Friday, July 02, 2010.

Docket Numbers: ER10-1423-000.

Applicants: Tampa Electric Company.

Description: Tampa Electric Co submits Second Revised Sheet No. 11 to First Revised Rate Schedule FERC No. 6.

Filed Date: 06/11/2010.

Accession Number: 20100611-0214.

Comment Date: 5 p.m. Eastern Time on Friday, July 02, 2010.

Docket Numbers: ER10-1424-000.

Applicants: Eagle Industrial Power Services (IL), LL.

Description: Eagle Industrial Power Services (IL), LLC submits application for market based rate authority and granting of waivers and Blanket Authorization, request for expedited consideration and prior notice waiver.

Filed Date: 06/11/2010.

Accession Number: 20100611-0218.

Comment Date: 5 p.m. Eastern Time on Friday, July 02, 2010.

Docket Numbers: ER10-1425-000.

Applicants: EDF Industrial Power Services (NY), LLC.

Description: EDF Industrial Power Services, LLC submits application for market based rate authority and granting of waivers and Blanket Authorization, request for expedited consideration and prior notice waiver.

Filed Date: 06/11/2010.

Accession Number: 20100611-0217.

Comment Date: 5 p.m. Eastern Time on Friday, July 02, 2010.

Docket Numbers: ER10-1426-000.

Applicants: Southwestern Public Service Company.

Description: Southwestern Public Service Company submits revised formula rate template for partial requirements service to Golden Spread Electric Cooperative, Inc, effective 7/1/08.

Filed Date: 06/11/2010.

Accession Number: 20100611-0216.

Comment Date: 5 p.m. Eastern Time on Friday, July 02, 2010.

Docket Numbers: ER10-1427-000.

Applicants: Brookfield Energy Marketing LP.

Description: Brookfield Energy Marketing LP submits tariff filing per 35.12: BEMLP FERC Electric Tariff to be effective 8/1/2010.

Filed Date: 06/11/2010.

Accession Number: 20100611-5072.

Comment Date: 5 p.m. Eastern Time on Friday, July 02, 2010.

Docket Numbers: ER10-1428-000.

Applicants: Pacific Gas and Electric Company.

Description: Notice of Termination for the FPL Energy, LLC Generator Special Facilities Agreement of Pacific Gas and Electric Company.

Filed Date: 06/14/2010.

Accession Number: 20100614-5017.

Comment Date: 5 p.m. Eastern Time on Tuesday, July 06, 2010.

Docket Numbers: ER10-1429-000.

Applicants: Tampa Electric Company.

Description: Tampa Electric Company submits tariff filing per 35.12: Baseline-Cost Based Tariff to be effective 6/14/2010.

Filed Date: 06/14/2010.

Accession Number: 20100614-5019.

Comment Date: 5 p.m. Eastern Time on Tuesday, July 06, 2010.

Docket Numbers: ER10-1430-000.

Applicants: Select Energy, Inc.

Description: Select Energy, Inc. submits notice of cancellation of FERC Electric Rate Schedule No 1.

Filed Date: 06/11/2010.

Accession Number: 20100614-0202.

Comment Date: 5 p.m. Eastern Time on Friday, July 02, 2010.

Docket Numbers: ER10-1431-000.

Applicants: PJM Interconnection, LLC.

Description: PJM Interconnection, LLC submits notice of cancellation of a Wholesale Market Participation Agreement with Southeastern Chester County Refuse Authority, et al.

Filed Date: 06/11/2010.

Accession Number: 20100614-0201.

Comment Date: 5 p.m. Eastern Time on Friday, July 02, 2010.

Docket Numbers: ER10-1432-000.

Applicants: Newcorp Resources Electric Cooperative.

Description: Newcorp Resources Electric Cooperative, Inc. submits its Baseline Filing Schedule, tariff filing per 35.12, to be effective 6/14/2010.

Filed Date: 06/14/2010.

Accession Number: 20100614-5036.

Comment Date: 5 p.m. Eastern Time on Tuesday, July 06, 2010.

Docket Numbers: ER10-1433-000.

Applicants: Florida Power Corporation.

Description: Florida Power Corporation submits Second Revised Sheet No 19 to First Revised Rate Schedule FERC No 80, effective 6/12/10.

Filed Date: 06/14/2010.

Accession Number: 20100614-0214.

Comment Date: 5 p.m. Eastern Time on Tuesday, July 06, 2010.

Docket Numbers: ER10-1434-000.

Applicants: Xcel Energy Services Inc.

Description: Southwestern Public Service Company submits Connection Agreement for the new Service Point for the new Lea County ERF Substation with Lea County Electric Cooperative, Inc.

Filed Date: 06/14/2010.

Accession Number: 20100614-0215.

Comment Date: 5 p.m. Eastern Time on Tuesday, July 06, 2010.

Docket Numbers: ER10-1435-000.

Applicants: Southern California Edison Company.

Description: Southern California Edison Company submits tariff filing per 35.13(a)(2)(iii): SGIA-DSA_GBU_N_061410 to be effective 6/15/2010.

Filed Date: 06/14/2010.

Accession Number: 20100614-5087.

Comment Date: 5 p.m. Eastern Time on Tuesday, July 06, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-14858 Filed 6-18-10; 8:45 am]

BILLING CODE 6717-01-P